DEPARTMENT OF THE INTERIOR

National Park Service

[NPS-WASO-NAGPRA-NPS0036467; PPWOCRADN0-PCU00RP14.R50000]

Notice of Inventory Completion: Gilcrease Museum, Tulsa, OK

AGENCY: National Park Service, Interior.

ACTION: Notice.

SUMMARY: In accordance with the Native American Graves Protection and Repatriation Act (NAGPRA), the Gilcrease Museum has completed an inventory of human remains and associated funerary objects and has determined that there is no cultural affiliation between the human remains and associated funerary objects and any Indian Tribe. The human remains and associated funerary objects were removed from Calhoun and Ashley Counties, AR.

DATES: Disposition of the human remains and associated funerary objects in this notice may occur on or after September 27, 2023.

ADDRESSES: Laura Bryant, Gilcrease Museum 800 S Tucker Drive, Tulsa, OK 74104, telephone (918) 596-2747, email laura-bryant@utulsa.edu.

SUPPLEMENTARY INFORMATION: This notice is published as part of the National Park Service's administrative responsibilities under NAGPRA. The determinations in this notice are the sole responsibility of the Gilcrease Museum. The National Park Service is not responsible for the determinations in this notice. Additional information on the determinations in this notice, including the results of consultation, can be found in the inventory or related records held by the Gilcrease Museum.

Description

The human remains and associated funerary objects listed below were collected by Frank Soday, an avocational archeologist. In 1980, the Thomas Gilcrease Association purchased Frank Soday's entire collection from him and donated it to Gilcrease Museum.

Human remains representing, at minimum, two individuals were removed from Bang's Slough in Calhoun County, AR. On June 19-20, 1950, Frank Soday excavated at the site with Jerry Carr (his nephew) and Ray Hammons. The three associated funerary objects are one lot consisting of pottery sherds and two lots consisting of worked stone.

Human remains representing, at minimum, two individuals were removed from the Stringfellow Farm in Calhoun County, AR. On November 19, 1949, Frank Soday excavated at the site. The five associated funerary objects are one lot consisting of pottery sherds, one lot consisting of grinding stones, one lot consisting of lithic tools, one lot consisting of worked stone, and one lot consisting of awls.

Human remains representing, at minimum, one individual were removed from Sweitzer's Mound in Ashley County, AR. On November 13, 1949, Frank Soday excavated at the site with Richard Franz. The two associated funerary objects are one lot consisting of pottery sherds and one lot consisting of lithic tools.

Aboriginal Land

The human remains and associated funerary objects in this notice were removed from known geographic locations. These locations are the aboriginal lands of one or more Indian Tribes. The following information was used to identify the aboriginal land: a treaty.

Determinations

Pursuant to NAGPRA and its implementing regulations, and after consultation with the appropriate Indian Tribes, the Gilcrease Museum has determined that:

• The human remains described in this notice represent the physical remains of five individuals of Native American ancestry.

• The 10 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Quapaw Nation.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after September 27, 2023. If competing requests for disposition are received, the Gilcrease Museum must determine the most appropriate requestor prior to disposition. Requests for joint disposition of the human remains and associated funerary objects are considered a single request and not competing requests. The Gilcrease Museum is responsible for sending a copy of this notice to the Indian Tribe identified in this notice.

Authority: Native American Graves Protection and Repatriation Act, 25 U.S.C. 3003, and the implementing regulations, 43 CFR 10.9 and 10.11.

Dated: August 18, 2023.
Melanie O'Brien,
Manager, National NAGPRA Program.

[FR Doc. 2023-18504 Filed 8-25-23; 8:45 am]

BILLING CODE 4312-52-P